FEDERAL MARITIME COMMISSION

[Petition No. P5-03]

Petition of National Customs Brokers and Forwarders Association of America, Inc. for Limited Exemption from Certain Tariff Requirements of the Shipping Act of 1984; Extension of Time

Notice is hereby given that the Commission has determined to extend the due date for comments in reply to Petition No. P5-03 until October 10, 2003.

Bryant L. VanBrakle,
Secretary.

[FR Doc. 03-24185 Filed 9-22-03; 8:45 am]

BILLING CODE 6730-01-P